DEPARTMENT OF COMMERCE

National Oceanic and Atmospheric Administration

50 CFR Part 648

[I.D. 022001A]

New England Fishery Management Council; Public Meeting

AGENCY: National Marine Fisheries Service (NMFS), National Oceanic and Atmospheric Administration (NOAA), Commerce.

ACTION: Public meeting.

SUMMARY: The New England Fishery Management Council (Council) will hold a 2-day Council meeting, on March 14 and 15, 2001, to consider actions affecting New England fisheries in the exclusive economic zone (EEZ).

DATES: The meeting will be held on Wednesday and Thursday, March 14 and 15, at 9 a.m. and 8:30 a.m., respectively.

ADDRESSES: The meetings will be held at the Radisson Hotel New London, 35 Governor Winthrop Boulevard, New London, CT, 06320; telephone (860) 443-7000. Requests for special accommodations should be addressed to the New England Fishery Management Council, 50 Water Street, Mill 2, Newburyport, MA 01950; telephone (978) 465-0492.

FOR FURTHER INFORMATION CONTACT: Paul J. Howard, Executive Director, New England Fishery Management Council (978) 465-0492.

SUPPLEMENTARY INFORMATION:

Wednesday, March 14, 2001

After introductions, the meeting will begin with a report from the Council’s Groundfish Committee on alternatives for draft Amendment 13 to the Northeast Multispecies Fishery Management Plan (FMP). Prior to that discussion, the Council will receive two reports. The first will summarize fishing industry comments on the social impacts of groundfish management measures since 1994. The second will present information on changes in groundfish vessel gross revenues since 1994. A discussion of the biological objectives for the amendment is also scheduled. The alternatives discussion will be based on the broad concepts of refinements to the status quo measures, area-based management and sector allocation by gear type.

Thursday, March 15, 2001

The second day of the Council meeting will begin with reports on recent activities from the Council Chairman, Executive Director, the NMFS Regional Administrator, Northeast Fisheries Science Center and Mid-Atlantic Fishery Management Council liaisons, NOAA General Counsel and representatives of the Coast Guard, NMFS Enforcement and the Atlantic States Marine Fisheries Commission. These reports will be followed by a brief period for public comments on any topic relevant to Council business. The Council will revisit its priorities for 2001 in view of the need to develop a Red Crab FMP. Based on Council approval of a change in priorities, the Red Crab Committee will be prepared to recommend goals and objectives for the Red Crab FMP. The Scallop Committee will seek approval of goals and objectives for Amendment 10 to the Scallop FMP as well as a draft outline of management alternatives. The Council meeting will adjourn after addressing any other outstanding business.

Although other non-emergency issues not contained in this agenda may come before this Council for discussion, those issues may not be the subjects of formal action during this meeting. Council action will be restricted to those issues specifically listed in this notice and any issues arising after publication of this notice that require emergency action under section 305(c) of the Magnuson-Stevens Fishery Conservation and Management Act, provided the public has been notified of the Council's intent to take final action to address the emergency.

The Council will consider public comments at a minimum of two Council meetings before making recommendations to the NMFS Regional Administrator on any framework adjustment to a fishery management plan. If she concurs with the adjustment proposed by the Council, the Regional Administrator has the discretion to publish the action either as proposed or final regulations in the Federal Register. Documents pertaining to framework adjustments are available for public review 7 days prior to a final vote by the Council.

Special Accommodations

This meeting is physically accessible to people with disabilities. Requests for sign language interpretation or other auxiliary aids should be directed to Paul J. Howard (see ADDRESSES) at least 5 days prior to the meeting date.

Dated: February 22, 2001.
Richard W. Surdi,
Acting Director, Office of Sustainable Fisheries, National Marine Fisheries Service.

[FR Doc. 01-4893 Filed 2-27-01; 8:45 am]

BILLING CODE 3510-22-S